DEPARTMENT OF ENERGY

Federal Energy Regulatory Commission

[Docket No. CP20-479-000]

Northern Natural Gas Company; Notice of Schedule for Environmental Review of The 2021 Auburn A-Line Abandonment and Capacity Replacement Project

On June 11, 2020, Northern Natural Gas Company (Northern) filed an application in Docket No. CP20-479-000 requesting abandonment authorization and a Certificate of Public Convenience and Necessity pursuant to Section 7(b) and 7(c) of the Natural Gas Act to abandon, construct, and operate certain natural gas pipeline facilities in Lancaster, Otoe, Johnson, and Nemaha counties, Nebraska. The proposed project is known as the 2021 Auburn A-Line Abandonment and Capacity Replacement Project (Project), and Northern states it would modernize Northern's pipeline system, improve reliability, and enable safer long-term operation of the system.

On June 25, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA December 11, 2020

90-day Federal Authorization Decision Deadline March 11, 2021

If a schedule change becomes necessary, additional notice will be provided so that the relevant agencies are kept informed of the Project's progress.

Project Description

Northern proposes to abandon in-place 31.7 miles of 4- to 6-inch-diameter A-line in Lancaster, Otoe, Johnson, and Nemaha counties, Nebraska. In addition, Northern proposes to construct and operate about 4.4 miles of new 8-inch-diameter pipeline and install a launcher and a regulation station in Lancaster and Otoe counties, Nebraska.

Background

On July 24, 2020, the Commission issued a Notice of Intent to Prepare an Environmental Assessment for the Proposed 2021 Auburn A-Line Abandonment and Capacity Replacement Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-479), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 11, 2020.
Kimberly D. Bose,
Secretary.

[FR Doc. 2020-17917 Filed 8-14-20; 8:45 am]

BILLING CODE 6717-01-P